DEPARTMENT OF AGRICULTURE

Forest Service

Sunken Moose Project; Chequamegon/Nicolet National Forest, Bayfield County, Wisconsin

AGENCY: Forest Service, USDA.

ACTION: Notice, intent to prepare an environmental impact statement.

SUMMARY: The Forest Service will prepare an environmental impact statement (EIS) to document the analysis and disclose the environmental effects of proposed land management activities, and corresponding alternatives, within the Sunken Moose Project Area.

The purpose of the Sunken Moose project is to implement land management activities that are consistent with direction in the Chequamegon Nation Forest Land and Resource Management Plan (Forest Plan) and to respond to specific needs, identified during Watershed Analysis, within the project area. The project specific needs include addressing: forest vegetation composition, age, ecological structure and processes; stand tending; transportation management; erosion control; access to lakes; and wildfire prevention.

The project area is located on National Forest System lands within the Bayfield Peninsula Southeast, Bayfield Peninsula Northwest, Iron River, and Fish Creek Watersheds west of Washburn, Wisconsin. A general legal description of the area follows: Land lying within the National Forest Boundary within Township 47 North, Range 6 West, Sections 2-8, 17, 18; Township 47 North, Range 7 West, Sections 1-18, 21,22; Township 47 North, Range 8 West, Section 1; Township 48 North, Range 5 West, Section 6; Township 48 North, Range 6 West; Township 48 North, Range 7 West; Township 48 North, Range 8 West, Sections 12, 13, 24, 25, 36; Township 49 North, Range 5 West, Sections 6-7,18-19,30-31; Township 49 North, Range 6 West; Township 49 North, Range 7 West, Sections 1, 11-17, 20-29, 32-36.

DATES: Comments concerning the proposed land management activities should be received by June 8, 2001 of this notice to receive timely consideration in the preparation of the draft Environmental Impact Statement (EIS).

ADDRESSES: Send written comments and suggestions on the proposed action, or Requests to be placed on the project mailing list, to: Keith W. Fletcher, Acting District Ranger, Washburn Ranger District, P.O. Box 578, 113 East Bayfield St., Washburn, WI 54891. E-mail comments should have a subject line that reads “NEPA Washburn Sunken Moose” and be sent to rkiewit@fs.fed.us.

FOR FURTHER INFORMATION CONTACT: Ray Kiewit, Project Leader/NEPA Coordinator, Washburn Ranger District, P.O. Box 578, 113 East Bayfield St., Washburn, WI 54891, phone (715) 373-2667,or email at rkiewit@fs.fed.us.

SUPPLEMENTARY INFORMATION: The information presented in this notice is included to help the reviewer determine if they are interested in or potentially affected by proposed management activities. The information presented is summarized. Those who wish to provide comments, or are otherwise interested in or affected by the project, are encouraged to obtain additional information from the contact identified in the For Further Information Contact section.

Proposed Actions—The proposed land management activities (proposed actions) include the following, with approximate acreage values:

(1) Forest vegetation composition, age, ecological structure—Do partial tree removal on 12,800 acres of red pine plantations in a manner that encourages introduction of within-stand vegetative diversity (including white pine), introduces understory species, and leads to fewer, larger overstory red pine trees on sites (This includes some row thinning, some individual tree removal, and some creation of canopy gaps). Do partial tree removal on 8,000 acres of oak forest types. About one-fourth of the acres would consist of modified shelterwood activity—with no overstory removal—to remove aspen and reintroduce white pine where feasible. Trees on the remaining acres would be thinned to increase tree vigor. Do shelterwood treatment on 900 acres of paper birch. About two thirds of the acres would be treated to regenerate new stands of paper birch, while one third would convert to red oak or white pine species. Do partial tree removal within 250 acres of aspen stands to encourage longer lived species such as red oak or white pine. Clearcut 100 acres of aspen in small (5-15 acre) patches to increase aspen age-class diversity. Underplant white pine seedlings on 10 acres near riparian areas. Plant red pine seedlings in the vicinity of Horseshoe Lake Campground.

(2) Ecological processes—Use prescribed burning on 2000 acres to promote Barrens and Pine Savannah vegetation communities.

(3) Stand tending—Do hand release (remove over-topping vegetation near young tree seedlings) within 3500 acres of pine plantations.

(4) Transportation management—Complete roads analysis (Forest Service Manual 7712.1) for the project area. Resulting proposed activities may include road construction, decommissioning and reclassification (mileage, locations, and purpose of each will be part of the Draft EIS).

(5) Erosion control—Rehabilitate approximately 30 sites, including the hillside near Long Lake, areas near lakeshores, pipeline corridors, and portions of trail corridors, where recreational use has caused soil erosion. Restrict use of dispersed site on east side of Horseshoe Lake to daytime only (no overnight camping). Repair Forest Road 697 where it crosses Four mile Creek and relocate Forest Road 847 near Bladder Lake so that erosion and sedimentation is greatly reduced or halted.

(6) Access to lakes—Restrict motorized access to Sawdust, Moose, Little Bladder, Mirror, Summit, Crystal, East Twin, and Cabin Lakes. Stabilize soil on lake access points after effective traffic control devices have been installed.

(7) Wildfire prevention—Install dry hydrants and/or improve access for fire equipment to draft water at Pine, Lenawee, Rib, Moose, Cabin, Long, Mirror, Bladder, Sawdust, and Summit Lakes plus one un-named lake in the central portion of Township 48 North, Range 8 West, Section 36.

Responsible Official—The Acting District Ranger of the Washburn Ranger District, Keith W. Fletcher, is the responsible official for making project-level decisions, within the project area.

Decision Space—Decision-making will be limited to if, when, how, and where to schedule specific activities relating to the proposed actions. The primary decision to be made will be whether or not to implement the proposed actions or another action alternative that responds to the project's purpose and needs.

Project History—Other projects in the same vicinity have been presented to the public in the past for review and comment. Fourteen environmental assessments, including Pipeline (1992) and Lenawee (1993), were completed, and approved through Decision Notices/Findings of No Significant Impact between 1988 and 2000. They included projects to manage vegetation within the Moquah Barrens Wildlife area, to salvage jack pine trees following ice storm, to thin plantations, and to accomplish recreation projects. In 1991, the Sunken Camp EIS was approved through a Record of Decision for vegetative management activities in the area, as well.

Preliminary Issues—Comments from the public, American Indian tribes, and other agencies were considered in identifying the following preliminary issue: potential effects on Threatened, Endangered, and Sensitive (TES) species and Management Indicator Species (MIS); concern over new road construction and road closures; concern over motorized recreational access; concern over forest health, in relation to the current vegetative patterns, structures, and species composition; and, potential effects of restoration activities on the overall watershed.

Public Participation—The Forest Service is seeking comments from Federal, State, and local agencies, as well as local Native American tribes and other individuals or organizations that may be interested in or affected by the proposed action. Comments received in response to this notice will become a matter of public record. While public participation is welcome at any time, comments on the proposed actions received within 30 days of this notice will be especially useful in the preparation of the draft EIS. Timely comments will be used to identify: potential issues with the proposed actions; alternatives to the proposed actions that respond to the identified needs and significant issues, and potential environmental effects of the proposed actions and alternatives considered in detail. In addition, the public is encouraged to contact and/or visit Forest Service officials at any time during the planning process.

Relation to Forest Plan Revision—The Chequamegon-Nicolet National Forest is in the process of revising and combining the existing Land and Resource Management Plans (Forest Plans) for the Chequamegon National Forest and Nicolet National Forest, which were administratively separate at the time the Forest Plans were developed. A Notice of Intent to revise and combine the Forest Plans was issued in 1996. As part of this process, various inventories and evaluations are occurring. Additionally, the Forest is in the process of developing alternative land management scenarios that could change the desired future conditions and management direction for the Forest. A Draft Environmental Impact Statement (DEIS) will be published in the near future that will disclose the consequences of the different land management direction scenarios considered in detail. As a result of the Forest Plan revision effort, the Forest has new and additional information beyond that used to develop the existing Forest Plans. This information will be used where appropriate in the analysis of this project to disclose the effects of the proposed activities and any alternatives developed in detail.

The decisions associated with the analysis of this project will be consistent with the existing Forest Plan, unless amended, for the Chequamegon. Under regulations of the National Environmental Policy Act (40 CFR 1506.1), the Forest Service can take actions while work on a Forest Plan is in progress because a programmatic Environmental Impact Statement—the existing Forest Plan Final EIS—already covers the actions. The relationship of the project to the proposed Forest Plan revision will be considered as appropriate as part of this planning effort.

Estimated Dates for Filing—The draft EIS is expected to be filed with the Environmental Protection Agency and available for public review in January, 2002. A 45-day comment period will follow publication of a Notice of Availability of the draft EIS in the Federal Register. Comments received on the draft EIS will be used in preparation of a final EIS, expected in May 2002. A Record of Decision (ROD) will be issued at that time along with the publication of a Notice of Availability of the final EIS and ROD in the Federal Register.

The Reviewer's Obligation to Comment—The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS state but that are not raised until after completion of the final EIS may be waived or dismissed by the courts. City of Angoon v. Hodel, 803 F.2d 1016, 1022 (9th Cir. 1986), and Wisconsin Heritages Ubc, v, Harris. 490 F Supp. 1334, 1338 (E.D. Wis., 1980). Because of these court rulings, it is very important that those interested in this proposed action participate by the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Dated: April 18, 2001.
Lynn Roberts,
Forest Supervisor, Chequamegon/Nicolet National Forest.

[FR Doc. 01-10059 Filed 4-23-01; 8:45 am]

BILLING CODE 3410-11-U